DEPARTMENT OF AGRICULTURE

Submission for OMB Review; Comment Request

December 17, 2014.

The Department of Agriculture has submitted the following information collection requirement(s) to OMB for review and clearance under the Paperwork Reduction Act of 1995, Public Law 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), OIRA_Submission@omb.eop.gov or fax (202) 395-5806 and to Departmental Clearance Office, USDA, OCIO, Mail Stop 7602, Washington, DC 20250-7602. Comments regarding these information collections are best assured of having their full effect if received within 30 days of this notification. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Food and Nutrition Service

Title: Child and Adult Care Food Program Sponsor and Provider Characteristics Study.

OMB Control Number: 0584-NEW.

Summary of Collection: The Child and Adult Care Food program 9CACFP) is a federal program that provides meals and snacks in child and adult day care facilities. The objective of the CACFP Sponsor and Provider Characteristics Study is to provide the United States Department of Agriculture's Food and Nutrition Service (FNS), the Congress, advocates, and other interested in the CACFP with information that accurately describes the Program's current child care sponsors and providers. Section 305 of the Healthy, Hunger-Free Kids Act of 2010 (HHFKA, Pub. L. 111-296) requires CACFP sponsors and providers to cooperate with USDA program research and evaluation studies.

Need and Use of the Information: This study will conduct a national survey of CACFP sponsors and providers that offers policy makers, advocates, and the general public with up-to-date information about: (1) Who is sponsoring child care providers; (2) The type of training and technical assistance sponsors receive from their State CACFP Administering Agency; (3) How often and what aspects of the program State monitor; (4) How sponsors operate and manage the Program to ensure its integrity, as well as compliance with Federal and State regulations; and (5) What types of providers sponsors serve.

Description of Respondents: Business or other for-profit; State, Local or Tribal Government.

Number of Respondents: 4,324.

Frequency of Responses: Reporting: Annually.

Total Burden Hours: 3,891.

Ruth Brown,
Departmental Information Collection Clearance Officer.

[FR Doc. 2014-29981 Filed 12-22-14; 8:45 am]

BILLING CODE 3410-30-P